DEPARTMENT OF THE INTERIOR

Bureau of Land Management

[LLWO600000.L18200000.XH0000]

2016 National Call for Nominations for Resource Advisory Councils

AGENCY: Bureau of Land Management, Interior.

ACTION: Notice.

SUMMARY: The purpose of this notice is to request public nominations for the Bureau of Land Management (BLM) Resource Advisory Councils (RAC) that have member terms expiring. The RACs provide advice and recommendations to the BLM on land use planning and management of the National System of Public Lands within their geographic areas. The BLM will accept public nominations for 45 days after the publication of this notice.

DATES: All nominations must be received no later than May 2, 2016.

ADDRESSES: See SUPPLEMENTARY INFORMATION for the address of BLM State Offices accepting nominations.

FOR FURTHER INFORMATION CONTACT: Twinkle Thompson, BLM Communications, 1849 C Street NW., Room 5645, Washington, DC 20240, 202-208-7301.

SUPPLEMENTARY INFORMATION: The Federal Land Policy and Management Act (FLPMA) directs the Secretary of the Interior to involve the public in planning and issues related to management of lands administered by the BLM. Section 309 of FLPMA (43 U.S.C. 1739) directs the Secretary to establish 10- to 15-member citizen-based advisory councils that are consistent with the Federal Advisory Committee Act (FACA). As required by FACA, RAC membership must be balanced and representative of the various interests concerned with the management of the public lands. The rules governing RACs are found at 43 CFR subpart 1784 and include the following three membership categories:

Category One—Holders of Federal grazing permits and representatives of organizations associated with energy and mineral development, the timber industry, transportation or rights-of-way, developed outdoor recreation, off-highway vehicle use, and commercial recreation;

Category Two—Representatives of nationally or regionally recognized environmental organizations, archaeological and historic organizations, dispersed recreation activities, and wild horse and burro organizations; and

Category Three—Representatives of State, county, or local elected office, employees of a State agency responsible for management of natural resources, representatives of Indian tribes within or adjacent to the area for which the council is organized, representatives of academia who are employed in natural sciences, and the public-at-large.

Individuals may nominate themselves or others. Nominees must be residents of the State in which the RAC has jurisdiction. The BLM will evaluate nominees based on their education, training, experience, and knowledge of the geographical area of the RAC. Nominees should demonstrate a commitment to collaborative resource decision-making. The Obama Administration prohibits individuals who are currently federally registered lobbyists from being appointed or re-appointed to FACA and non-FACA boards, committees, or councils.

The following must accompany all nominations:

—Letters of reference from represented interests or organizations;

—A completed Resource Advisory Council application; and

—Any other information that addresses the nominee's qualifications.

Simultaneous with this notice, BLM State offices will issue press releases providing additional information for submitting nominations, with specifics about the number and categories of member positions available for each RAC in the state. Nominations and completed applications for RACs should be sent to the appropriate BLM offices listed below:

Alaska

Alaska RAC

Thom Jennings, Alaska State Office, BLM, 222 West 7th Avenue, #13, Anchorage, AK 99513, 907-271-3335.

Arizona

Arizona RAC

Dorothea Boothe, Arizona State Office, BLM, One North Central Avenue, Suite 800, Phoenix, AZ 85004, 602-417-9219.

California

Central California RAC and Carrizo Plain National Monument Advisory Committee

David Christy, Mother Lode Field Office, BLM, 5152 Hillsdale Circle, El Dorado Hills, CA 95762, 916-941-3146.

Northern California RAC

Jeff Fontana, BLM Northern California District, 2550 Riverside Drive, Susanville, CA 96130, 530-252-5332.

Colorado

Front Range RAC

Kyle Sullivan, Royal Gorge Field Office, BLM, 3028 East Main Street, Cañon City, CO 81212, 719-269-8553.

Northwest RAC

Christopher Joyner, Grand Junction Field Office, BLM, 2815 H Road, Grand Junction, CO 81506, 970-244-3097.

Southwest RAC

Shannon Borders, Southwest District Office, BLM, 2465 South Townsend Avenue, Montrose, CO 81401, 970-240-5399.

Idaho

Boise District RAC

MJ Byrne, Boise District Office, BLM, 3948 South Development Avenue, Boise, ID 83705-5339, 208-384-3393.

Coeur d'Alene District RAC

Suzanne Endsley, Coeur d'Alene District Office, BLM, 3815 Schreiber Way, Coeur d'Alene, ID 83815, 208-769-5004.

Idaho Falls District RAC

Sarah Wheeler, Idaho Falls District Office, BLM, 1405 Hollipark Drive, Idaho Falls, ID 83401, 208-524-7550.

Twin Falls District RAC

Heather Tiel-Nelson, Twin Falls District Office, BLM, 2878 Addison Avenue East, Twin Falls, ID 83301, 208-736-2352.

Montana and Dakotas

Central Montana RAC

Jonathan Moor, Lewistown Field Office, BLM, 920 Northeast Main Street, Lewistown, MT 59457, 406-538-1943.

Dakotas RAC

Mark Jacobsen, Miles City Field Office, BLM, 111 Garryowen Road, Miles City, MT 59301, 406-233-2800.

Eastern Montana RAC

Mark Jacobsen, Miles City Field Office, BLM, 111 Garryowen Road, Miles City, MT 59301, 406-233-2800.

Western Montana RAC

David Abrams, Butte Field Office, BLM, 106 North Parkmont, Butte, MT 59701, 406-533-7617.

New Mexico

Albuquerque District RAC

Carlos Coontz, Socorro Field Office, BLM, 901 South Highway 85, Socorro, NM 87801, 575-838-1263.

Farmington District RAC

Tamara Faust, Farmington District Office, BLM, 6251 College Boulevard, Farmington, NM 87402, 505-564-7762.

Las Cruces District RAC

Deborah Stevens, Las Cruces District Office, BLM, 1800 Marquess Street, Las Cruces, NM 88005, 575-525-4421.

Pecos District RAC

Howard Parman, Pecos District Office, BLM, 2909 West Second Street, Roswell, NM 88201, 575-627-0212.

Nevada

Mojave-Southern Great Basin RAC; Northeastern Great Basin RAC; Sierra Front Northwestern Great Basin RAC

Chris Rose, Nevada State Office, BLM, 1340 Financial Boulevard, Reno, NV 89502, 775-861-6480.

Oregon/Washington

Eastern Washington RAC; John Day-Snake RAC; Southeast Oregon RAC; Steens Mountain Advisory Council; San Juan Islands National Monument Advisory Council; Coastal Oregon RAC; Southwest Oregon RAC; Northwest Oregon RAC

Greg Shine, Oregon/Washington State Office, BLM, 1220 SE. Third Avenue, Portland, OR, 97204, 503-808-6306.

Utah

Utah RAC

Lola Bird, Utah State Office, BLM, 440 West 200 South, Suite 500, Salt Lake City, UT 84101, 801-539-4033.

Grand Staircase Escalante National Monument Advisory Committee

Larry Crutchfield, 669 South Highway, 89A, Kanab, UT 84741, 435-644-1209.

Wyoming

Wyoming RAC

Christian Venhuizen, Wyoming State Office, BLM, 5353 Yellowstone Road, P.O. Box 1828, Cheyenne, WY 82003, 307-775-6103.

Authority: 43 CFR 1784.4-1.

Steven A. Ellis,
Deputy Director, Operations.

[FR Doc. 2016-06146 Filed 3-17-16; 8:45 am]

BILLING CODE 4310-84-P